DEPARTMENT OF ENERGY

Federal Energy Regulatory Commission

[Docket No. EC05-94-000, et al.]

MidAmerican Energy Company, et al.; Electric Rate and Corporate Filings

June 14, 2005.

The following filings have been made with the Commission. The filings are listed in ascending order within each docket classification.

1. MidAmerican Energy Company [Docket No. EC05-94-000]

Take notice that on June 10, 2005, MidAmerican Energy Company (MidAmerican), filed with the Commission an application pursuant to section 203 of the Federal Power Act for authorization of a disposition of jurisdictional facilities whereby MidAmerican proposes to acquire by exchange from Central Iowa Power Cooperative (CIPCO), a nonjurisdictional electric generation and transmission cooperative, a switchyard and related facilities located in Scott County, Iowa that will be used in conjunction with the provision of retail electric service to one customer.

MidAmerican has served a copy of the filing on CIPCO, the Iowa Utilities Board, the Illinois Commerce Commission, and the South Dakota Public Utilities Commission.

Comment date: 5 p.m. Eastern Time on July 1, 2005.

2. California Independent System Operator

[Docket Nos. EL00-95-132 and EL00-98-119]

Take notice that on June 9, 2005, the California Independent System Operator (CAISO) tendered for filing an errata to the July 24, 2002 compliance filing made by the CAISO. The CAISO states that the purpose of this filing is to correct an incorrect reference to a bid price level in the clean sheet version of section 2.5.23.3.1 of the ISO Tariff, as included in the July 24, 2002 compliance filing.

Comment date: 5 p.m. Eastern Time on July 11, 2005.

3. New York Independent System Operator, Inc.

[Docket Nos. EL01-19-006 and EL02-16-006]

Take notice that on June 2, 2005, New York Independent System Operator, Inc. (NYISO) tendered for filing a refund report pursuant to the Commission's Order issued March 4, 2005 in Docket No. EL01-19-002, et al., 110 FERC ¶ 61,243 (2005).

Comment date: 5 p.m. Eastern Time on June 23, 2005.

4. Reliant Energy Maryland Holdings, LLC and Reliant Energy New Jersey Holdings, LLC (ER00-1749-002); Reliant Energy Mid-Atlantic Power Holdings, LLC (ER00-2508-001); Reliant Energy New Jersey Holdings, LLC and Reliant Energy Services, Inc. (ER99-1801-007); Reliant Energy Seward, LLC (ER01-3035-005); Reliant Energy Solutions East, LLC (ER02-1762-003); Twelvepole Creek, LLC (ER01-852-004); Reliant Energy Coolwater, Inc. (ER02-2453-002); Reliant Energy Ellwood, Inc. (ER02-2451-002); Reliant Energy Etiwanda, Inc. (ER02-2450-002); Reliant Energy Mandalay, Inc. (ER02-2452-002); Reliant Energy Ormond Beach, Inc. (ER02-2449-002)

Take notice that on June 6, 2005, the above-captioned Reliant Companies (Reliant Companies) submitted a compliance filing pursuant to the Commission's order issued May 5, 2005 in Reliant Energy Aurora, LP, et al., 111 FERC ¶ 61,159 (2005).

Comment Date: 5 p.m. on June 27, 2005.

Standard Paragraph

Any person desiring to intervene or to protest in any of the above proceedings must file in accordance with Rules 211 and 214 of the Commission's Rules of Practice and Procedure (19 CFR 385.211 and 385.214) on or before 5 pm Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3198 Filed 6-20-05; 8:45 am]

BILLING CODE 6717-01-P